CONSUMER PRODUCT SAFETY COMMISSION

16 CFR Part 1700

Household Products Containing Hydrocarbons; Extension of Comment Period on Notice of Data Availability

AGENCY: Consumer Product Safety Commission.

ACTION: Notice of data availability; extension of comment period.

SUMMARY: In the Federal Register of April 11, 2001, 66 FR 18738, the Consumer Product Safety Commission (“CPSC” or “Commission”) invited comment on: An analysis conducted by CPSC staff on brand name-specific data on exposure to possible hydrocarbon-containing cosmetics; and an additional staff analysis of data available when the Commission issued a Notice of Proposed Rulemaking (“NPR”) proposing child-resistant packaging requirements for household chemical and cosmetic products with viscosity less than 100 Saybolt Universal Seconds (“SUS”) containing 10 percent or more hydrocarbons, 65 FR 93 (January 3, 2000). In response to a request on behalf of the Cosmetic, Toiletry, and Fragrance Association to extend the comment period on these analyses for 60 days, the Commission is extending it for an additional 30 days, that is, through Monday, June 11, 2001.¹ Today's document does not re-open the comment period on the NPR.

¹ Commissioners Mary Sheila Gall and Thomas H. Moore voted to extend the comment period by 30 days. Chairman Ann Brown voted to deny the request to extend the comment period.

DATES: The Office of the Secretary must receive any comments on the staff analyses not later than June 11, 2001.

ADDRESSES: Comments should be mailed, preferably in five copies, to the Office of the Secretary, Consumer Product Safety Commission, Washington, DC 20207-0001, or delivered to the Office of the Secretary, Consumer Product Safety Commission, Room 502, 4330 East-West Highway, Bethesda, Maryland 20814; telephone (301) 504-0800. Comments also may be filed by facsimile to (301) 504-0127 or by e-mail to cpsc-os@cpsc.gov. Comments should be captioned “Notice of Additional Hydrocarbon Data.”

FOR FURTHER INFORMATION CONTACT: Suzanne Barone, Directorate for Health Sciences, Consumer Product Safety Commission, Washington, DC 20207; telephone (301) 504-0477, ext. 1196.

SUPPLEMENTARY INFORMATION: Copies of the staff analyses may be obtained from the Office of the Secretary. The analyses are also available on the CPSC world wide web site at: http://www.cpsc.gov/library/foia/foia01/brief/hydrocar.pdf

Comments on the analyses must be received by the Office of the Secretary not later than Monday, June 11, 2001.

Dated: April 30, 2001.
Sadye E. Dunn,
Secretary, Consumer Product Safety Commission.

[FR Doc. 01-11199 Filed 5-3-01; 8:45 am]

BILLING CODE 6355-01-P